SUSQUEHANNA RIVER BASIN COMMISSION

Actions Taken at September 4, 2014, Meeting

AGENCY: Susquehanna River Basin Commission.

ACTION: Notice.

SUMMARY: As part of its regular business meeting held on September 4, 2014, in Corning, New York, the Commission took the following actions: (1) Approved or tabled the applications of certain water resources projects; (2) accepted settlements in lieu of penalty from Carrizo (Marcellus), LLC; JKT Golf LLC; and Southwestern Energy Production Company; and (3) took additional actions, as set forth in the Supplementary Information below.

DATES: September 4, 2014.

ADDRESSES: Susquehanna River Basin Commission, 4423 N. Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) An informational presentation from the Upper Susquehanna Coalition chairperson Jeffrey Parker on the current programs at the Upper Susquehanna Coalition; (2) release of proposed rulemaking to amend Commission regulations to clarify the water uses involved in hydrocarbon development that are subject to consumptive use regulations, as implemented by the Approval By Rule program; (3) rescission of unneeded or outdated policies; and (4) approval of a grant amendment ratification.

Compliance Matters

The Commission approved settlements in lieu of civil penalty for the following projects:

1. Carrizo (Marcellus), LLC (Meshoppen Creek), Washington Township, Wyoming County, Pa.—$9,000.

2. JKT Golf LLC, Four Seasons Golf Club—Exeter, Exeter Township, Luzerne County, Pa.—$7,000.

3. Southwestern Energy Production Company (Wyalusing Creek Withdrawal), Wyalusing Township, Bradford County, Pa.—$5,000.

Project Applications Approved

The Commission approved the following project applications:

1. Project Sponsor and Facility: City of Aberdeen, Harford County, Md. Modification to extend the approval term of the surface water withdrawal approval (Docket No. 20021210) to be coterminous with the revised Maryland Department of the Environment State Water Appropriation and Use Permit for the Aberdeen Proving Ground-Aberdeen Area.

2. Project Sponsor and Facility: City of Aberdeen, Harford County, Md. Modification to extend the approval term of the consumptive water use approval (Docket No. 20021210) to be coterminous with the revised Maryland Department of the Environment State Water Appropriation and Use Permit for the Aberdeen Proving Ground-Aberdeen Area.

3. Project Sponsor and Facility: Anadarko E&P Onshore LLC (Lycoming Creek), McIntyre Township, Lycoming County, Pa. Surface water withdrawal of up to 0.499 mgd (peak day).

4. Project Sponsor and Facility: Anadarko E&P Onshore LLC (Pine Creek), McHenry Township, Lycoming County, Pa. Renewal of surface water withdrawal of up to 0.499 mgd (peak day) (Docket No. 20100902).

5. Project Sponsor and Facility: Cabot Oil & Gas Corporation (Tunkhannock Creek), Nicholson Township, Wyoming County, Pa. Surface water withdrawal of up to 2.000 mgd (peak day).

6. Project Sponsor and Facility: Carrizo (Marcellus), LLC (East Branch Wyalusing Creek), Jessup Township, Susquehanna County, Pa. Renewal of surface water withdrawal of up to 0.720 mgd (peak day) (Docket No. 20100601).

7. Project Sponsor and Facility: Inflection Energy (PA) LLC (Loyalsock Creek), Upper Fairfield Township, Lycoming County, Pa. Surface water withdrawal of up to 1.700 mgd (peak day).

8. Project Sponsor: Lancaster County Solid Waste Management Authority. Project Facility: Susquehanna Resource Management Complex, City of Harrisburg, Dauphin County, Pa. Consumptive water use of up to 0.700 mgd (peak day).

9. Project Sponsor: Leola Sewer Authority. Project Facility: Upper Leacock Township, Lancaster County, Pa. Groundwater withdrawal of up to 0.075 mgd (30-day average) from Well 13.

10. Project Sponsor and Facility: Newport Borough Water Authority, Oliver and Howe Townships and Newport Borough, Perry County, Pa. Groundwater withdrawal of up to 0.065 mgd (30-day average) from Well 1.

11. Project Sponsor and Facility: Sunbury Generation LP, Shamokin Dam Borough and Monroe Township, Snyder County, Pa. Modification to project features and reduction of the surface water withdrawal from 354.000 mgd (peak day) to 10.000 mgd (peak day) (Docket No. 20081222).

12. Project Sponsor and Facility: Sunbury Generation LP, Shamokin Dam Borough and Monroe Township, Snyder County, Pa. Modification to project features and reduction of the consumptive water use from 8.000 mgd (peak day) to 6.500 mgd (peak day) (Docket No. 20081222).

13. Project Sponsor and Facility: Talisman Energy USA Inc. (Susquehanna River), Terry Township, Bradford County, Pa. Renewal of surface water withdrawal of up to 1.500 mgd (peak day) (Docket No. 20100613).

14. Project Sponsor and Facility: Talisman Energy USA Inc. (Wappasening Creek), Windham Township, Bradford County, Pa. Surface water withdrawal of up to 0.999 mgd (peak day).

Project Applications Approved Involving Diversions

1. Project Sponsor and Facility: City of Aberdeen, Harford County, Md. Modification to extend the approval term of the out-of-basin diversion approval (Docket No. 20021210) to be coterminous with the revised Maryland Department of the Environment State Water Appropriation and Use Permit for the Aberdeen Proving Ground-Aberdeen Area.

2. Project Sponsor: DS Services of America, Inc. Project Facility: Bethany Children's Home, Heidelberg Township, Berks County, Pa. Into-basin diversion from the Delaware River Basin of up to 0.200 mgd (peak day) from Bethany Children's Home bulk spring water source (Boreholes PWA and PWB).

Project Applications Tabled

The Commission tabled action on the following project applications:

1. Project Sponsor and Facility: Heidelberg Township Municipal Authority, Heidelberg Township, Lebanon County, Pa. Application for renewal of groundwater withdrawal of up to 0.115 mgd (30-day average) from Well 5 (Docket No. 19820602).

2. Project Sponsor and Facility: IBM Corporation, Village of Owego, Tioga County, N.Y. Application for groundwater withdrawal of up to 0.002 mgd (30-day average) from Well 415.

3. Project Sponsor and Facility: Jay Township Water Authority, Jay Township, Elk County, Pa. Application for groundwater withdrawal of up to 0.265 mgd (30-day average) from Byrnedale Well #1.

4. Project Sponsor and Facility: LHP Management, LLC (Muncy Creek), Muncy Creek Township, Lycoming County, Pa. Application for renewal of surface water withdrawal of up to 0.999 mgd (peak day) (Docket No. 20120607).

5. Project Sponsor and Facility: Millersville University of Pennsylvania, Millersville Borough, Lancaster County, Pa. Application for renewal of consumptive water use of up to 0.253 mgd (peak day) (Docket No. 19820105).

6. Project Sponsor and Facility: Millersville University of Pennsylvania, Millersville Borough, Lancaster County, Pa. Application for renewal and modification to increase groundwater withdrawal by an additional 0.055 mgd (30-day average) from Well 1, for a total of up to 0.320 mgd (30-day average) from Well 1 (Docket No. 19820105).

7. Project Sponsor: Pennsylvania Department of Environmental Protection—South-central Regional Office, City of Harrisburg, Dauphin County, Pa. Facility Location: Leacock Township, Lancaster County, Pa. Application for groundwater withdrawal of up to 0.590 mgd (30-day average) from Stoltzfus Well.

8. Project Sponsor: Pennsylvania Department of Environmental Protection—South-central Regional Office, City of Harrisburg, Dauphin County, Pa. Facility Location: Leacock Township, Lancaster County, Pa. Application for groundwater withdrawal of up to 0.432 mgd (30-day average) from Township Well.

9. Project Sponsor and Facility: Somerset Regional Water Resources, LLC (Salt Lick Creek), New Milford Township, Susquehanna County, Pa. Application for renewal of surface water withdrawal of up to 0.720 mgd (peak day) (Docket No. 20100905).

10. Project Sponsor and Facility: Sugar Hollow Trout Park and Hatchery, Eaton Township, Wyoming County, Pa. Application for renewal of groundwater withdrawal of up to 0.864 mgd (30-day average) from Wells 1, 2, and 3 (the Hatchery Well Field) (Docket No. 20100913).

11. Project Sponsor and Facility: SWEPI LP (Cowanesque River), Nelson Township, Tioga County, Pa. Application for renewal of surface water withdrawal of up to 0.533 mgd (peak day) (Docket No. 20100604).

12. Project Sponsor and Facility: Upper Halfmoon Water Company, Halfmoon Township, Centre County, Pa. Application for groundwater withdrawal of up to 0.396 mgd (30-day average) from Well 6.

13. Project Sponsor and Facility: Warwick Township Municipal Authority, Warwick Township, Lancaster County, Pa. Application for groundwater withdrawal of up to 0.288 mgd (30-day average) from Rothsville Well 2.

Authority: Pub. L. 91-575, 84 Stat. 1509 et seq., 18 CFR Parts 806, 807, and 808.

Dated: September 30, 2014.
Stephanie L. Richardson,
Secretary to the Commission.

[FR Doc. 2014-23885 Filed 10-6-14; 8:45 am]

BILLING CODE 7040-01-P